DEPARTMENT OF ENERGY

Federal Energy Regulatory Commission

[Docket No. RP03-529-000]

ANR Pipeline Company; Notice of Proposed Changes in FERC Gas Tariff

July 1, 2003.

Take notice that on June 25, 2003, ANR Pipeline Company (ANR) tendered for filing as part of its FERC Gas Tariff, Second Revised Volume No. 1, the following tariff sheets proposed to become effective July 25, 2003:

Second Revised Sheet No. 182

Third Revised Sheet No. 186

ANR states that it seeks approval of (1) an assignment of its Gas Purchase Agreement (GPA) with Dakota Gasification Company, as well as related transportation capacity, to BP Canada Energy Marketing Corp. (BP) and (2) the above-referenced tariff sheets to implement recovery of the costs relating to such assignment. Subject to Commission approval, ANR states that it has agreed to assign to BP its obligations under the GPA, and permanently release to BP two transportation contracts with Northern Natural Gas Company and Northern Border Pipeline Company, respectively. ANR explains that assuming that the Assignment Agreement is effectuated on August 1, 2003, the parties have agreed to a buyout cost of approximately $9.5 million. To recover the buyout costs, ANR proposes to revise its existing tariff to include a mechanism that provides for a twelve month recovery period.

Any person desiring to be heard or to protest said filing should file a motion to intervene or a protest with the Federal Energy Regulatory Commission, 888 First Street, NE., Washington, DC 20426, in accordance with Sections 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: July 7, 2003.

Magalie R. Salas,
Secretary.

[FR Doc. 03-17297 Filed 7-8-03; 8:45 am]

BILLING CODE 6717-01-P